NATIONAL CREDIT UNION ADMINISTRATION

Notice of Meeting; Sunshine Act

TIME AND DATE: 10 a.m., Thursday, June 24, 2004.

PLACE: Board Room, 7th Floor, Room 7047, 1775 Duke Street, Alexandria, VA 22314-3428.

STATUS: Open.

MATTERS TO BE CONSIDERED: 1. Request from a Federal Credit Union to Convert to a Community Charter.

2. Proposed Rule: Section 701.14 of NCUA's Rules and Regulations, Change in Official or Senior Executive Officer in Credit Unions that are Newly Chartered or in Troubled Condition.

3. Proposed Rule: Part 717 of NCUA's Rules and Regulations Implementing the Fair and Accurate Credit Transactions Act of 2003, Affiliate Marketing Regulations.

4. Proposed Rule: Part 723 of NCUA's Rules and Regulations, Member Business Loans.

5. Final Rule: Parts 703 and 704 of NCUA's Rules and Regulations, Investment in Exchangeable Collateralized Mortgage Obligations.

FOR FURTHER INFORMATION CONTACT: Beck Baker, Secretary of the Board, telephone: (703) 518-6304.

Becky Baker,
Secretary of the Board.

[FR Doc. 04-14112 Filed 6-17-04; 2:29 pm]

BILLING CODE 7535-01-M